DEPARTMENT OF COMMERCE

International Trade Administration

Textile, Furniture, and Modular Housing Trade Mission

AGENCY: International Trade Administration, Department of Commerce.

ACTION: Notice to announce textile, furniture, and modular housing trade mission, Amman, Jordan, May 23-24, 2004.

SUMMARY: The Office of Textiles and Apparel (OTEXA), of the International Trade Administration, United States Department of Commerce (USDOC), will sponsor a trade mission to Jordan for technical, industrial, contract and hospitality fabrics, furniture, and modular housing. The mission will include a Commerce staff member from OTEXA, and representatives from U.S. industry interested in selling their products in Jordan and Iraq.

FOR FURTHER INFORMATION CONTACT: Office of Business Liaison; Room 5062; Department of Commerce; Washington, DC 20230; tel: (202) 482-1360; fax: (202) 482-4054.

SUPPLEMENTARY INFORMATION:

Textile, Furniture, and Modular Housing Trade Mission Amman, Jordan—May 23-24, 2004

Mission Statement

I. Description of the Mission

The Office of Textiles and Apparel (OTEXA), of the International Trade Administration, United States Department of Commerce (USDOC), will sponsor a trade mission to Jordan for technical, industrial, contract and hospitality fabrics, furniture, and modular housing. The mission will include a Commerce staff member from OTEXA, and representatives from U.S. industry interested in selling their products in Jordan and Iraq.

U.S. suppliers are internationally recognized for high quality products in technical, industrial, contract and hospitality fabric, furniture, and modular housing. These highly engineered products will be used in ongoing and planned commercial and industrial projects throughout Jordan and Iraq. Iraqi buyers will be invited to Amman, Jordan for appointments with the mission participants.

In addition there is a need for these products in order for the Iraqi government to build up their hospitality and commercial markets to accelerate infrastructure development, the spin off from the sale of such products provides jobs, training and state of the art material.

Mission participants will meet with private sector developers, specifiers, and buyers of such products.

II. Commercial Setting for the Mission

This is an opportunity for U.S. manufacturers and suppliers of technical and industrial fabrics, contract/hospitality fabrics, furniture, and modular housing to increase their sales and expand their customer base in relatively new markets for the United States. Rapid development throughout the Middle East and the rebuilding of Iraq's basic infrastructure are leading catalysts for a genuine “boom” in the Middle East. Jordan and Iraq are key markets in the Middle East that have seen an increase in commercial infrastructure resulting from improving economies and, in the case of Iraq, the need to rebuild housing, hospitality, institutional government, and other public and private sector projects. However, there are certain risks, which need to be evaluated and considered by each prospective participant. These risks are noted in the following sections.

III. Goals for the Mission

The Mission will seek to promote exports of U.S. technical fabrics, contract/hospitality fabrics, furniture, and furnishings to Jordan, Iraq and other countries in the region, and to secure representation agreements for mission members with pre-screened agents and distributors.* This unique opportunity will also give mission participants the opportunity to conduct market research, and evaluate market opportunities in this region.

* Due to the security condition in Iraq the Department of Commerce cannot guarantee the attendance of the invited participants from Iraq.

IV. Scenario for the Mission

Ten companies are expected to participate in this mission. The Department of Commerce reserves the right to adjust this number due to market or logistical constraints.

Matchmaking appointments will take place in Amman, Jordan. Mission participants will meet individually by appointment with pre-screened buyers, agents, and distributors. The Department will make every effort to schedule appropriate appointments with each mission participant. There will be a mission briefing for participants on local market conditions and selling opportunities.

We anticipate that the mission cost will be approximately $2,900 per company, excluding travel, hotel accommodation, ground transportation and meals.

Timetable

The Mission is scheduled to occur May 23-24, 2004.

Participants are scheduled to arrive in Amman, Jordan on May 22, 2004. On Sunday, May 23, 2004, following set-up and a briefing, appointments will be scheduled from 9 a.m.-6 p.m. On Sunday evening, May 22, 2004, a reception is tentatively scheduled from 7-9 p.m. at the mission site. On Monday, May 24, 2004, appointments will be scheduled from 9-6 p.m. On Monday, May 24, 2004, following the last appointment the Mission will conclude.

Members will depart individually from the mission on Thursday, May 25, 2004.

Recruitment will begin immediately and will conclude on May 14, 2004. For logistical and security reasons, applications received after the deadline will not be considered.

V. Criteria for Participant Selection

• Relevance of a company's product line to mission goals.

• Timeliness of signed application and participation agreement by company.

• Maximum of 10 companies on the mission.

• Potential for business in the Middle East.

Mission recruitment will be conducted in an open and public manner, including publication in the Federal Register, posting on the Internet, press releases to the general and trade media, direct mail and fax, notices by industry trade associations and other multiplier groups, and industry meetings, conferences, trade shows, etc.

A company's products must be either manufactured or produced in the United States. If manufactured or produced outside the United States, each product displayed must be marketed under the name of a U.S. firm and have U.S. content representing at least 51 percent of the value of the finished product.

Any partisan political activities (including political contributions) of an applicant are entirely irrelevant to the selection process.

Contact: Mary Lynn Landgraf at (202) 482-7909, Mary-Lynn_Landgraf@ita.doc.gov or Lawrence Brill at (202) 482-1856, Lawrence_Brill@ita.doc.gov.

Or mail to: U.S. Department of Commerce/OTEXA, 1401 Constitution Ave., NW., Room 3100, Washington, DC 20230.

Dated: April 27, 2004.
John Klingelhut,
Senior Advisor, Export Promotion Services.

[FR Doc. 04-10418 Filed 5-6-04; 8:45 am]

BILLING CODE 3510-DR-P